DEPARTMENT OF ENERGY

Federal Energy Regulatory Commission

Combined Notice of Filings

Take notice that the Commission has received the following Natural Gas Pipeline Rate and Refund Report filings:

Filings Instituting Proceedings

Docket Numbers: RP22-521-000.

Applicants: Alliance Pipeline L.P.

Description: § 4(d) Rate Filing: Negotiated Rates—Various Feb 1 Capacity Releases to be effective 2/1/2022.

Filed Date: 2/1/22.

Accession Number: 20220201-5047.

Comment Date: 5 p.m. ET 2/14/22.

Docket Numbers: RP22-522-000.

Applicants: Equitrans, L.P.

Description: § 4(d) Rate Filing: Negotiated Rate Capacity Release Agreements—2/1/2022 to be effective 2/1/2022.

Filed Date: 2/1/22.

Accession Number: 20220201-5056.

Comment Date: 5 p.m. ET 2/14/22.

Docket Numbers: RP22-523-000.

Applicants: Maritimes & Northeast Pipeline, L.L.C.

Description: § 4(d) Rate Filing: Negotiated Rate—Northern Utilities 210363 Release eff 2-1-2022 to be effective 2/1/2022.

Filed Date: 2/1/22.

Accession Number: 20220201-5062.

Comment Date: 5 p.m. ET 2/14/22.

Docket Numbers: RP22-524-000.

Applicants: Algonquin Gas Transmission, LLC.

Description: § 4(d) Rate Filing: Negotiated Rates—Various Releases eff 2-1-2022 to be effective 2/1/2022.

Filed Date: 2/1/22.

Accession Number: 20220201-5099.

Comment Date: 5 p.m. ET 2/14/22.

Docket Numbers: RP22-525-000.

Applicants: Enable Gas Transmission, LLC.

Description: § 4(d) Rate Filing: Negotiated Rate Filing—Feb 1, 2022 to be effective 2/1/2022.

Filed Date: 2/1/22.

Accession Number: 20220201-5122.

Comment Date: 5 p.m. ET 2/14/22.

Docket Numbers: RP22-526-000.

Applicants: Enable Mississippi River Transmission, LLC.

Description: § 4(d) Rate Filing: Negotiated Rate Filing—Feb 1, 2022 to be effective 2/1/2022.

Filed Date: 2/1/22.

Accession Number: 20220201-5123.

Comment Date: 5 p.m. ET 2/14/22.

Docket Numbers: RP22-527-000.

Applicants: ANR Pipeline Company.

Description: § 4(d) Rate Filing: ANR—Citadel Negotiated Rate Agreement No. 137084 to be effective 2/1/2022.

Filed Date: 2/1/22.

Accession Number: 20220201-5133.

Comment Date: 5 p.m. ET 2/14/22.

Docket Numbers: RP22-528-000.

Applicants: North Baja Pipeline, LLC.

Description: § 4(d) Rate Filing: Energia de Baja California NR Agmt to be effective 2/1/2022.

Filed Date: 2/1/22.

Accession Number: 20220201-5138.

Comment Date: 5 p.m. ET 2/14/22.

Docket Numbers: RP22-529-000.

Applicants: Northern Natural Gas Company.

Description: § 4(d) Rate Filing: 20220201 Annual PRA to be effective 4/1/2022.

Filed Date: 2/1/22.

Accession Number: 20220201-5142.

Comment Date: 5 p.m. ET 2/14/22.

Docket Numbers: RP22-530-000.

Applicants: Rockies Express Pipeline LLC.

Description: § 4(d) Rate Filing: REX 2022-02-01 Negotiated Rate Agreements to be effective 2/2/2022.

Filed Date: 2/1/22.

Accession Number: 20220201-5154.

Comment Date: 5 p.m. ET 2/14/22.

Docket Numbers: RP22-531-000.

Applicants: Midwestern Gas Transmission Company.

Description: § 4(d) Rate Filing: Negotiated Rate PAL—Twin Eagle Resource Management, LLC to be effective 2/1/2022.

Filed Date: 2/1/22.

Accession Number: 20220201-5225.

Comment Date: 5 p.m. ET 2/14/22.

Docket Numbers: RP22-532-000.

Applicants: Midcontinent Express Pipeline LLC.

Description: § 4(d) Rate Filing: Open Season Filing to be effective 4/1/2022.

Filed Date: 2/2/22.

Accession Number: 20220202-5027.

Comment Date: 5 p.m. ET 2/14/22.

Docket Numbers: RP22-533-000.

Applicants: Rover Pipeline LLC.

Description: § 4(d) Rate Filing: Summary of Negotiated Rate Capacity Release Agreements on 2-2-22 to be effective 12/31/9998.

Filed Date: 2/2/22.

Accession Number: 20220202-5055.

Comment Date: 5 p.m. ET 2/14/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-410-001.

Applicants: Alliance Pipeline L.P.

Description: Compliance filing: Action Alert and OFO Provisions Compliance Filing to be effective 1/13/2022.

Filed Date: 2/2/22.

Accession Number: 20220202-5039.

Comment Date: 5 p.m. ET 2/14/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 2, 2022.
Debbie-Anne A. Reese,
Deputy Secretary.

[FR Doc. 2022-02614 Filed 2-7-22; 8:45 am]

BILLING CODE 6717-01-P